DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 17, 2017.

ADDRESSES: Send comments to—Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: Copies of the applications are available for inspection in the Records Center, East Building, PHH-30, 1200 New Jersey Avenue SE., Washington, DC or at http://regulations.gov.

This notice of receipt of applications for special permit is published in accordance with part 107 of the Federal hazardous materials transportation law (49 U.S.C. 5117(b); 49 CFR 1.53(b)).

Issued in Washington, DC, on May 25, 2017.
Donald Burger,
Chief, Office of the Special Permits and Approvals.

Application No. | Docket No. | Applicant | Regulation(s) affected | Nature of the special permits thereof
Modification Special Permits
9649-M |  | Alliant Techsystems Operations LLC | 172.101 | To modify the special permit to add UN0470, articles, explosive, n.o.s. as an authorized hazardous material.
14392-M |  | Department of Defense (Military Surface Deployment & Distribution Command) | 172.101, 176.83, 176.136, 176.144 | To authorize the addition of several more ships to the preposition ship fleet which allows for stowage of Class I explosive materials below deck with an alternative container stowage configuration.
14453-M |  | FIBA Technologies, Inc | 180.209(a), 180.209(b), 180.209(b)(1)(iv) | To modify the special permit to clarify the requirements for the 5-year external visual inspections and the persons authorized to perform them.
15146-M |  | Starco Enterprises, Inc | 173.304(d) | To modify the special permit to authorize additional 2.1 hazmat.
20400-N |  | BIC USA Inc | 173.308(c)(2) | To authorize the transportation in commerce of lighters in alternative packaging by private or contract motor carrier, or by common carrier in a motor vehicle under exclusive use, between manufacturing sites, distribution centers and retail outlets.
20404-N |  | Rotech Healthcare Inc | 180.209(a), 180.209(b)(1), 180.209(b)(1)(iv) | To authorize the transportation in commerce of certain hazardous materials in DOT Specification 3AL cylinders that are requalified every ten years rather than every five years using 100% ultrasonic examination.
20409-N |  | IKI Manufacturing Co., Inc | 173.306(a)(5) | To authorize the transportation in commerce of plastic aerosols classed as Division 2.1 for the purposes of testing and disposal.
20427-N |  | Space Systems/Loral, LLC | 173.220 | To authorize the transportation in commerce of machinery containing more than 500 ml of fuel.
20436-N |  | Mistwood Aviation Services LLC |  | Applicant was trying to apply for party status to DOT-SP 10996.
20439-N |  | Total Feuerschutz | 173.309(c) | To authorize the transportation in commerce of fire extinguishers which do not have the “MEETS DOT REQUIREMENTS” label on them.
20444-N |  | Wiretough Cylinders, LLC | 173.302(a) | To authorize the manufacture, mark, sale, and use of non-DOT specification meeting the requirements of ISO 11119-1 except as specified herein.
20446-N |  | The CI Thornburg Co Inc |  | Applicant was trying to apply for DOT-SP12412.
20447-N |  | Wesmar Company, Inc |  | Applicant was trying to apply for DOT-SP12412.
20448-N |  | Korean Airlines Co., Ltd | 172.204(c)(2), 175.30(a)(1), 173.27(b)(2), 173.27(b)(3) | To authorize the transportation in commerce of certain explosives which are forbidden for transport by cargo only aircraft.
20449-N |  | Atlas Air, Inc | 172.204(c)(3), 172.204(c)(3), 175.30(a)(1), 173.27(b)(2), 173.27(b)(3) | To authorize the transportation in commerce of explosives by cargo only aircraft in amounts forbidden by the regulations.
20457-N |  | Korean Airlines Co., Ltd | 172.204(c)(3), 172.204(c)(3), 175.30(a)(1), 173.27(b)(2), 173.27(b)(3) | To authorize the transportation in commerce of certain explosives which are forbidden for transport by cargo only aircraft.

[FR Doc. 2017-11343 Filed 6-15-17; 8:45 am]

BILLING CODE 4909-60-M